DEPARTMENT OF COMMERCE

National Institute of Standards and Technology

National Conference on Weights and Measures 97th Interim Meeting

AGENCY: National Institute of Standards and Technology, Commerce.

ACTION: Notice.

SUMMARY: The Interim Meeting of the 97th National Conference on Weights and Measures (NCWM) will be held January 22 to 25, 2012. This notice contains information about significant items on the NCWM Committee agendas, but does not include all agenda items. As a result, the items are not consecutively numbered.

DATES: The meeting will be held on January 22-25, 2012.

ADDRESSES: The meeting will be held at the Hotel Monteleone located at 214 Royal Street, New Orleans, LA 70130-2201.

FOR FURTHER INFORMATION CONTACT: Ms. Carol Hockert, Chief, NIST, Office of Weights and Measures, 100 Bureau Drive, Stop 2600, Gaithersburg, MD 20899-2600. You may also contact Ms. Hockert by telephone (301) 975-5507 or by email at Carol.Hockert@nist.gov. The meetings are open to the public, but a paid registration is required. Please see NCWM Publication 15 “Interim Meeting Agenda” (www.ncwm.net or http://www.nist.gov/pml/wmd/index.cfm) to view the meeting agendas, registration forms and hotel reservation information.

SUPPLEMENTARY INFORMATION: Publication of this notice on the NCWM's behalf is undertaken as a public service; NIST does not endorse, approve, or recommend any of the proposals contained in this notice or in the publications of the NCWM.

The NCWM is an organization of weights and measures officials of the states, counties, and cities of the United States, federal agencies, and private sector representatives. These meetings bring together government officials and representatives of business, industry, trade associations, and consumer organizations on subjects related to the field of weights and measures technology, administration and enforcement. NIST participates to promote uniformity among the states in laws, regulations, methods, and testing equipment that comprise the regulatory control of commercial weighing and measuring devices and other trade and commerce issues.

The following are brief descriptions of some of the significant agenda items that will be considered along with other issues at the NCWM Interim Meeting. Comments will be taken on these and other issues during several public comment sessions. At this stage, the items are proposals. This meeting also includes work sessions in which the Committees may also accept comments, and where they will finalize recommendations for NCWM consideration and possible adoption at its 97th Annual Meeting that will be held in Portland, Maine, on July 15-19, 2012. The Committees may withdraw or carryover items that need additional development.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of product sold among businesses. Issues on the agenda of the NCWM Laws and Regulations Committee (L&R Committee) relate to proposals to amend NIST Handbook 130, “Uniform Laws and Regulations in the area of Legal Metrology and Engine Fuel Quality” and NIST Handbook 133 “Checking the Net Contents of Packaged Goods.”

NCWM Specifications and Tolerances Committee

The following items are proposals to amend NIST Handbook 44:

Item 320-4, UR.1.2. Grain Hopper Scales.

The intent of this proposal is to add language to NIST Handbook 44 to clarify the requirement that hopper scales used to weigh grain must be Accuracy Class III weighing devices. The submitter of this proposal believes that this revision is needed to help ensure that weights and measures officials uniformly apply the handbook's tolerances and other technical and use requirements to grain hopper scales.

Liquid Measuring Devices

Some gasoline and fuel retailers offer a variety of discounts to consumers on fuel prices in connection with marketing services and dispensing product. The items that follow include proposals to modify Section 3.30. Liquid-Measuring Devices to require that retailers provide consumers with adequate transaction information to assist them in making value comparisons and ensure transparency when fuel purchases are discounted after a delivery.

Item 330-1, S.1.6.4.1. Unit Price

This proposal would modify the device specification to recognize current marketing practices that offer post delivery discounts on fuel prices and require final unit price information.

Item 330-2, S.1.6.5.4. Selection of Unit Price

This proposal would allow device manufacturers greater flexibility in the design and operation of customer operated controls on motor-fuel dispensers by recognizing the use of new technology in the selection of a unit price.

Item 330-3, S.1.6.6. Agreement between Indications

This proposal would exempt “total money values” displays on the dispenser and auxiliary equipment (such as the display on a remote control console in an operator's kiosk) from agreement requirements when retailers offer post delivery discounts for a fuel sale.

Item 330-4, S.1.6.7. Recorded Representations

This proposal would ensure that fuel dispensers provide receipts with sufficient price and other information to allow customers to understand any post delivery discounts and recognize the use of either digitally transmitted or printed receipts.

Item 330-5, UR.3.2. Unit Price and Product Identity

This proposal is intended to clarify the requirements for displaying or posting the final unit price of a fuel offered at a discount and periods where the highest unit price shall be displayed.

Item 330-6, UR.3.3. Computing Device

This proposal would require that customer receipts include adequate information to allow the customer to understand and verify any post delivery discounts the retailer provides in connection with a fuel sale.

Vehicle Tank Meters

Item 331-1, T.4. Product Depletion Test

This proposal would amend the handbook to base the product depletion test tolerances on the meter's maximum flow rate (a marking required on all meters), rather than the marked meter size (this marking is required for meters manufactured in 2009 or later). The justifications for this proposal are that it will improve the consistency of the tolerance application to older meters that are not required to be marked with the meter size and correct the application of tolerances applied to small meters.

Electronic Livestock, Meat and Poultry Carcass Evaluation Systems

Item 359-1, Tentative Status of Code 5.59. Electronic Livestock, Meat, and Poultry Evaluation Systems and/or Devices

The intent of this proposal is to make tentative Code 5.59. in Handbook 44 enforceable so that it can be used to control the accuracy and use of electronic carcass evaluation equipment. The equipment in this code is used commercially in livestock procurement operations to determine the value of the animals being purchased. Currently, there is no independent, third party verifying the accuracy of these devices. In 2010, 106.9 million hogs weighing 21.8 billion pounds with a total value of $15.7 billion were commercially purchased. Of these purchases, about 80 percent were made on a carcass yield weight basis using an electronic carcass evaluation device. The use of these devices in the beef industry is just emerging so no data on the level of use is available for that application. In addition, electronic evaluation devices are used to measure composition or quality constituents in individual cuts of meat for further sale to consumers. Studies have shown that improper use of electronic carcass evaluation equipment can change the value of livestock, meat, and poultry. The impact of calibration, machine, and formula errors is unknown. Because the revenues of livestock and poultry producers in every state are, or will be, affected by the use of these devices, adoption of a final code that defines specifications, tolerances, and other technical requirements for these devices will help ensure equity between buyer and seller and fair competition between businesses.

NCWM Laws and Regulations Committee

The following items are proposals to amend NIST Handbook 130 or NIST Handbook 133:

Uniform Regulation for the Method of Sale of Commodities

Item 232-1., Polyethylene Products—Method of Sale Regulation—Section 2.13.4. “Declaration of Weight.”

The Committee will consider a proposal to revise the density values used to calculate the net weights on some packages of polyethylene products to recognize that heavier density plastics are now being used in some sheeting and bags. (See also Item 260-4, Handbook 133, Chapter 4.7. Polyethylene Sheeting—Test Procedure—Footnote to Step 3.)

Item 232-6, Packaged Printer Ink and Toner Cartridges

A proposed method of sale will be considered for adoption to clarify the labeling requirements for packaged inkjet and toner cartridges to ensure that consumers are informed about the net quantity of contents of these products, and that value comparisons can be made, and quantities can be verified to ensure equity between buyer and seller and fair competition between sellers, including original equipment manufacturers and refillers.

Uniform Engine Fuels and Automotive Lubricants Regulation

Item 237-9, Requirements for Hydrogen, and Item 237-10, Definition for Hydrogen Fuel for Internal Combustion Engines and Fuel Cell Vehicles

These two proposed regulations are being considered to adopt a national quality standard for commercial hydrogen fuel and to adopt hydrogen related definitions. Both proposals would apply to hydrogen fuel when it is sold through dispensing equipment for use in fuel cell and internal combustion engine vehicles. The first proposal would add the most recent version of SAE International's Standard J2719 “Hydrogen Fuel Quality for Fuel Cell Vehicles” to specify the quality standards that hydrogen fuel would have to meet, and the second proposal would define the hydrogen-related terms of “fuel cell,” “hydrogen fuel,” and “internal combustion engine.”

Dated: December 22, 2011.
Willie E. May,
Associate Director for Laboratory Programs.

[FR Doc. 2011-33276 Filed 12-27-11; 8:45 am]

BILLING CODE 3510-13-P